DEPARTMENT OF DEFENSE

Department of the Air Force

Privacy Act of 1974; System of Records

AGENCY: Department of the Air Force, DoD.

ACTION: Notice to amend systems of records.

SUMMARY: The Department of the Air Force is amending a system of records notice in its existing inventory of record systems subject to the Privacy Act of 1974, (5 U.S.C. 552a), as amended.

In addition, a portion of the Preamble to the Air Force Compilation of systems of records notices is being amended as identified below.

DATES: This proposed action will be effective without further notice on November 13, 2003 unless comments are received which result in a contrary determination.

ADDRESSES: Send comments to the Air Force Privacy Act Manager, Office of the Chief Information Officer, AF-CIO/P, 1155 Air Force Pentagon, Washington, DC 20330-1155.

FOR FURTHER INFORMATION CONTACT: Mrs. Anne Rollins at (703) 601-4043.

SUPPLEMENTARY INFORMATION: The Department of the Air Force systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: October 6, 2003.
Patricia Toppings,
Alternate OSD Federal Register Liaison Officer, Department of Defense.

* * * * *

United States Air Force

How Systems of Records Are Arranged

In the Air Force, records are grouped by subject series. Each series has records about a specific activity or function to which a subject title and number is given. Systems of records are grouped in the same way. For example, a system of records on personnel security clearances may be found in “Security—31,” and one about Judge Advocate Personnel Records in “Law—51”. These numbers are part of the system identification, which precede the notices. They look like this: F031 AF SF A or F051 AFJA C. The letter “F” means Air Force. The first three digits (031 and 051) show that the records pertain to Security and Law respectively. The letters that follow indicate to whom the system applies and/or the Office of Primary Responsibility (OPR). For example, in system F031 AF SF A, AF indicates that this is an Air Force-wide system, with SF denoting Security Forces as the OPR. The last alpha designation is for internal management control. In the records system F051 AFJA C, (without a space between the AF and JA) indicates this is a Judge Advocate General System and applies to the office of The Judge Advocate General only.

A “DoD” in the identifier means that the Air Force system is a DoD-wide system of records and applies to all DoD Components.

Using the Index Guide

The systems of records maintained by the Air Force are contained within the subject series that are listed below.

This list identifies each series in the order in which it appears in this issuance. Use the list to identify subject areas of interest. Having done so, use the series number (for example 031 for Security) to locate the systems of records grouping in which you are interested.

System Identification Series—Subject Series

Flying Operations—011

Operations—010

Maintenance—021

Supply—023

Transportation—024

Security—031

Civil Engineering—032

Communications and Information—033

Services—034

Public Affairs—035

Personnel—036

Manpower and Organization—038

Medical—044

Law—051

Chaplain—052

Scientific/Research Development—061

Financial Management—065

Special Investigations—071

Command Policy—090

Safety—091

* * * * *

F031 AF SP E

System name:

Security Forces Management Information System (SFMIS) (August 29, 2003, 68 FR 51998).

Changes:

System identifier:

Delete entry and replace with ‘F031 AF SF B’.

* * * * *

Retention and disposal:

Delete entry and replace with ‘Destroy offenses reportable under Brady, Lautenberg, or involving sex offender registration 99 years after entry into the SFMIS database; Class A offenses and military offenses of confinement of more than 1 year or death is adjudged by court-martial 5 years from entry into database or term of confinement whichever is later; Class B offenses 3 years after entry into database or term of confinement, whichever is later; military offenses other than those disposed of by Article 15/Administrative Sanction 3 years after entry into database; offenses disposed of by Article 15/Adminstrative Sanction 6 months after entry into database; and records on acquittals, set aside actions and unfounded allegations immediately after action is completed.'

* * * * *

F031 AF SF B

System name:

Security Forces Management Information System (SFMIS).

System location:

DISA MegaCenter, Building 857, 401 E. Drive, Maxwell Air Force Base-Gunter Annex, AL 36114-3001; security forces units at all levels can access the system.

Categories of individuals covered by the system:

Individuals involved in incidents and accidents occurring on Air Force (AF) installations, or reportable incidents occurring off base, including all active duty military personnel, reserve and guard; DoD civilians and other civilians; and retirees, who may be victims, witnesses, complainants, offenders, suspects, drivers; individuals who have had tickets issued on base, or had their license suspended or revoked; those persons barred from the installation; and persons possessing a licensed firearm.

Categories of records in the system:

Data on individuals (victims, witnesses, complainants, offenders, suspects, and drivers) involved in incidents may include, but is not limited to, name; Social Security Number; date of birth; place of birth; home address and phone; alias; race; ethnicity; sex; marital status; identifying marks (tattoos, scars, etc.); height; weight; eye and hair color; date, location, nature and details of the incident/offense to include whether alcohol, drugs and/or weapons were involved; driver’s license information; tickets issued; vehicle information; suspension/revocation or barment records; whether bias against any particular group was involved; if offense involved sexual harassment; actions taken by military commanders (e.g., administrative and/or non-judicial measures, to include sanctions imposed); referral actions; court-martial results and punishments imposed; confinement information, to include location of correctional facility, gang/cult affiliation if applicable; and release/parole/clemency eligibility dates.

Authority for maintenance of the system:

10 U.S.C. 8013, Secretary of the Air Force; DoD Directive 7730.47, Defense Incident Based Reporting System (DIBRS); Air Force Instruction 31-203, Security Forces Management Information System; 18 U.S.C. 922 note, Brady Handgun Violence Prevention Act; 28 U.S.C. 534 note, Uniform Federal Crime Reporting Act; 42 U.S.C. 10601 et seq., Victims Rights and Restitution Act of 1990; and E.O. 9397 (SSN).

Purpose(s):

Serves as a repository of criminal and specified other non-criminal incidents used to satisfy statutory and regulatory reporting requirements, specifically to provide crime statistics required by the Department of Justice (DoJ) under the Uniform Federal Crime Reporting Act; to provide personal information required by the DoJ under the Brady Handgun Violence Prevention Act; and statistical information required by DoD under the Victim's Rights and Restitution Act; and to enhance AF's capability to analyze trends and to respond to executive, legislative, and oversight requests for statistical crime data relating to criminal and other high-interest incidents.

Security Forces commanders will use criminal/statistical data for local law enforcement purposes. The system generates reports for use by the Air Force Security Forces at all levels of command, provides security forces commanders the ability to view criminal statistics and apply whatever actions are necessary for enforcement.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of Justice for criminal reporting purposes and as required by the Brady Handgun Violence Prevention Act.

To courts and state, local, and foreign law enforcement agencies for valid judicial proceedings.

To victims and witnesses to comply with the Victim and Witness Assistance Program, the Sexual Assault Prevention and Response Program, and the Victims' Rights and Restitution Act of 1990.

The DoD “Blanket Routine Uses” published at the beginning of the Air Force's compilation of systems of records notices apply to this system.

Policies and practices for storing, retrieving, accessing, retaining, and disposing of records in the system:

Storage:

Maintained on computers and computer output products; some paper reports are generated.

Retrievability:

Records are retrieved by name or Social Security Number.

Safeguards:

Records are accessed by person(s) responsible for servicing the record system in performance of their official duties, and by authorized personnel who are properly screened and cleared for need-to-know. Records are stored in computer storage devices which are protected by computer system software.

Retention and disposal:

Destroy offenses reportable under Brady, Lautenberg, or involving sex offender registration 99 years after entry into the SFMIS database; Class A offenses and military offenses of confinement of more than 1 year or death is adjudged by court-martial 5 years from entry into database or term of confinement whichever is later; Class B offenses 3 years after entry into database or term of confinement, whichever is later; military offenses other than those disposed of by Article 15/Administrative Sanction 3 years after entry into database; offenses disposed of by Article 15/Adminstrative Sanction 6 months after entry into database; and records on acquittals, set aside actions and unfounded allegations immediately after action is completed.

System manager(s) and address:

Reports and Analysis Program Manager, Police Services Branch, Headquarters Air Force Security Forces Center (HQ AFSFC/SFOP), 1517 Billy Mitchell Boulevard, Lackland Air Force Base, TX 78236-0119.

Notification procedure:

Individuals seeking to access records about themselves contained in the system should address written requests to their servicing Security Forces Administrative Reports Section (SFAR) or visit the system manager at HQ Air Force Security Forces Center, Police Services Branch (HQ AFSFC/SFOP), 1517 Billy Mitchell Boulevard, Lackland Air Force Base, TX 78236-0119.

Individuals must identify themselves by full name, rank, home address, Social Security Number and present a military ID, valid driver's license, or some other form of identification when appearing in person.

Record access procedures:

Individuals seeking to access records about themselves contained in the system should address written requests to their servicing Security Forces Administrative Reports Section (SFAR) or visit the system manager at HQ Air Force Security Forces Center, Police Services Branch (HQ AFSFC/SFOP), 1517 Billy Mitchell Boulevard, Lackland Air Force Base, TX 78236-0119.

Individuals must identify themselves by full name, rank, home address, and Social Security Number.

Contesting records procedures:

The Air Force rules for accessing records, for contesting contents and appealing initial agency determinations are published in Air Force Instruction 37-132; 32 CFR part 806b; or may be obtained from the system manager.

Record source categories:

Information obtained from individuals; DoD and civilian law enforcement authorities, security flight personnel, desk sergeants, operations personnel, staff judge advocates, courts-martial, correctional institutions and facilities, and administrative reports branch personnel.

Exemptions claimed for the system:

Parts of this system may be exempt pursuant to 5 U.S.C. 552a(j)(2) if the information is compiled and maintained by a component of the agency, which performs as its principle function any activity pertaining to the enforcement of criminal laws.

An exemption rule for this exemption has been promulgated in accordance with requirements of 5 U.S.C. 553(b)(1), (2), and (3), (c) and (e) and published in 32 CFR part 806b. For additional information contact the system manager.

[FR Doc. 03-25853 Filed 10-10-03; 8:45 am]

BILLING CODE 5001-08-P